DEPARTMENT OF COMMERCE

National Oceanic and Atmospheric Administration

[Docket No. 000202024-3109-03 I.D. 030303B]

Announcement of Funding Opportunity to submit proposals for the South Florida Ecosystem Research and Monitoring Program (SFP) FY04

AGENCY: National Centers for Coastal Ocean Sciences/Center for Sponsored Coastal Ocean Research/Coastal Ocean Program (NCCOS/CSCOR/COP), National Ocean Service (NOS), National Oceanic and Atmospheric Administration (NOAA), Department of Commerce.

ACTION: Notice of Funding Availability for financial assistance for project grants and cooperative agreements.

SUMMARY: The purpose of this notice is to advise the public that NCCOS/CSCOR/COP is soliciting 1-year and 2-year proposals to support coastal ecosystem studies in South Florida including Florida Bay, Florida Keys, the Florida Keys National Marine Sanctuary (FKNMS), and adjacent coastal waters. It will provide support for the NOAA South Florida Program and the FKNMS. The overall goal of this Announcement is to fund high priority research and long term observational data collection needed to predict the impacts of Everglades restoration on the South Florida coastal ecosystem and to fulfill NOAA commitments to the South Florida Ecosystem Restoration effort and the Comprehensive Everglades Restoration Plan. Funding is contingent upon the availability of Fiscal Year 2004 and 2005 Federal appropriations. It is anticipated that projects funded under this announcement will have a March 1, 2004 start date.

DATES: The deadline for receipt of proposals at the COP office is 3 p.m., local time July 16, 2003. (Note that late-arriving applications provided to a delivery service on or before July 16, 2003, with delivery guaranteed before 3 p.m., local time on July 16,2003, will be accepted for review if the applicant can document that the application was provided to the delivery service with delivery to the address listed below guaranteed by the specified closing date and time; and, in any event, the proposals are received in the NCCOS/CSCOR/COP office by 3 p.m., local time, no later than 2 business days following the closing date.)

ADDRESSES: Submit the original and 15 copies of your proposal to Center for Sponsored Coastal Ocean Research/Coastal Ocean Program (N/SCI 2), National Oceanic and Atmospheric Administration, 1305 East-West Highway, SSMC4, 8th Floor Station 8243, Silver Spring, MD 20910, attention SFP 2004.

NOAA and Standard Form Applications with instructions are accessible on the following COP Internet Site: http://www.cop.noaa.gov under the COP Grants Information Section, Part D, Application Forms for Initial Proposal Submission.

Forms may be viewed and, in most cases, filled in by computer. All forms must be printed, completed, and mailed to NCCOS/CSCOR/COP with original signatures. If you are unable to access this information, you may call COP at 301-713-3338 to leave a mailing request.

FOR FURTHER INFORMATION CONTACT: Technical Information. Larry Pugh, SFP 2004 Program Manager, NCCOS/CSCOR/COP, 301-713-3338/ext 160, Internet: larry.pugh@noaa.gov.

Business Management Information. Leslie McDonald, NCCOS/CSCOR/COP Grants Administrator, 301-713-3338/ext 155, Internet: Leslie.McDonald@noaa.gov.

SUPPLEMENTARY INFORMATION:

Electronic Access

Background information on the NOAA South Florida Program, including descriptions of presently funded projects, results, data management, and programmatic infrastructure (including small boat access and policy) can be found at http://www.aoml.noaa.gov/ocd/sferpm.

Background information on the Florida Bay and Adjacent Marine Systems Interagency Science Program, including the Program Management Committee (PMC), Scientific Oversight Panel (SOP), copies of the annual science conference abstracts, workshop reports, and present Strategic Science Plan, can be found at http://www.aoml.noaa.gov/flbay.

Background information regarding Florida Keys National Marine Sanctuary can be found at http://www.fknms.nos.noaa.gov.

Background information regarding South Florida Ecosystem Restoration (SFER) in general can be found at http://www.sfrestore.org, while the Comprehensive Everglades Restoration Plan (CERP), Florida Bay/Florida Keys Feasibility Study, and RECOVER's South Estuaries Monitoring and Assessment Plan to which the projects funded herein are anticipated to contribute to can be found at http://www.evergladesplan.org.

Background

Program Description

For complete program description and other requirements criteria for the NCCOS/CSCOR/Coastal Ocean Program, see the General Grant Administration Terms and Conditions for the Coastal Ocean Program annual notification in the Federal Register November 8, 2002(67 FR 68103) and at the COP home page. Unless stated otherwise, in this notice, the requirements and procedures contained in the November 8, 2002 annual notification are applicable to this solicitation.

This program is one of the Federal and state programs contributing to the Florida Bay and Adjacent Marine Systems Interagency Science Program, which is designed to understand and predict the effects of South Florida ecosystem restoration.

The activities conducted to restore the South Florida ecosystem occur predominantly upstream of Florida Bay, and restoration impacts may not be direct or immediate. Through funding of the research areas identified here, NCCOS/CSCOR/COP will fund an integrated suite of activities to better understand the coastal and marine ecosystem adjacent to the Everglades, comprising Florida Bay and the FKNMS. The Goal of the complete effort is to develop a capability to predict the impacts of proposed Everglades Restoration activities on the coastal system from the mangroves to the coral reefs.

Research Areas

To address the goal of developing a capability to predict changes in coastal ecosystems resulting from Restoration activities, this announcement has five specific areas of interest: nutrient inputs and dynamics, water quality, circulation and physical oceanography, fisheries and protected resources, and Florida Keys habitat characterization and research.

(A) Nutrient Inputs and Dynamics. Proposals are solicited to address nutrient cycles within the water column and between the water column and benthos. Priority consideration for selection in this area will be given to nutrient proposals that cover the biogeochemical processes (including the microbial loop) governing the bio-availability of the organic forms of plant nutrients.

(B) Water Quality. The health of the coral reef community of the FKNMS depends upon the quality (temperature, salinity, nutrients, inorganic particulate load, light fields, and chemical contaminants) of the waters that flow over them. With Everglades restoration, water quality throughout South Florida coastal waters will be changed. Proposals are now solicited that address the chemical, biological, and optical characteristics of Bay waters that exit Keys passes and potentially reach the reef tract and protected areas in the FKNMS including the Dry Tortugas Ecological Reserve. These should address timely dissemination of information to the Interagency SFER science community and the public. Priority consideration for selection in this area will be given to projects coordinated with and complementary to physical oceanographic field studies.

(C) Circulation and Physical Oceanography. In the area of Circulation and Physical Oceanography, emphasis is placed on predicting the impacts of restoration scenarios and actions upstream and along the Keys, in the context of the physical variability of the natural system. Priority consideration for selection in this area will be given to proposals that address the following research topics:

(1) Measuring oceanographic parameters needed to verify and initialize regional and interior Bay circulation models;

(2) Determining the interconnections between the Gulf of Mexico loop and Florida currents and the Dry Tortugas Ecological Reserve (e.g.,quantifying flows entering the Florida Bay interior along its western margin and those intermittently exiting through Keys passages and potentially reaching the reef tract);

(3) Determining basin residence and turnover times, circulation, and flow within the Bay and across the banktops; or

(4) Developing a hydrodynamic model of the coastal seas adjacent to Florida Bay and the Florida Keys for use in providing boundary conditions for coastal limited area models in the region and for evaluating simulations of restoration scenarios.

(D) Fisheries and Protected Resources. Ecosystem changes caused by South Florida Ecosystem Restoration activities have ultimate impacts on the sustainability of higher trophic level (HTL) species, including fishery and protected resources, which have widely recognized importance.

Proposals are solicited to build models and provide information to increase predictive capability in linking higher trophic levels to ecosystem restoration activities. Priority consideration for selection in this area will be given to proposals having a modeling component, or interdisciplinary emphasis directed at the following research problems:

(1) Determining human (e.g., water management, fishing, excess nutrients, contaminants) and natural influences on biological processes affecting growth, survival, and recruitment of HTL species;

(2) Determining and modeling the major factors that influence distribution and abundance patterns and community, ecosystem and trophic structure;

(3) Identifying and modeling major pathways, mechanisms, and influencing factors in the transport of pre-settlement stages of offshore-spawning species onto nursery grounds; or

(4) Determining the processes impacting early settlement stage larvae and recruitment of important game fishes such as red drum, snook, tarpon, bone fish, and other estuarine and euryhaline dependent fish and macro invertebrates.

(E) Florida Keys Habitat Characterization and Research. Coral reefs, sea grass beds, and hard bottom communities comprise the submerged, biogenic habitats of the FKNMS that support diverse species assemblages. FKNMS management issues concerning these habitats cannot be fully addressed because of limited ecological research. Fully protected zones of the FKNMS, including the Dry Tortugas Ecological Reserve have been created to assist in the protection of biological diversity, disperse resource utilization in order to reduce user conflicts, and lessen the concentrated impact to marine organisms on heavily used reefs.

Emphasis in this area is placed on monitoring and research on sea grass beds, coral reef, and hard bottom communities to provide a basis for detecting potential changes associated with Everglades restoration and other anthropogenic and natural factors and evaluating the ecological benefits of FKNMS fully protected zones. Priority consideration for selection in this area will be given to proposals directed at the following research topics:

(1) Investigating the functional significance of hard bottom communities in the FKNMS ecosystem, particularly the roles of filter-feeding organisms and biogenic habitat structure.

(2) Monitoring and research on commercially important species (e.g. spiny lobster) and key depleted fishery species (e.g. queen conch);

(3) Creating ecosystem models of reef fish communities to predict the effects of zoning on species diversity, abundance, and trophic structure;

(4) Investigating how key ecological processes may be modified by zoning; and

(5) Measuring oceanographic processes impacting upon the Tortugas Ecological Reserve.

Other Participant Requirements

As participants in the Interagency Science Program for Florida Bay and Adjacent Marine Systems, funded principal investigators will be expected to:

(a) Participate in meetings for planning and coordination of the Program. This includes attending and contributing to the annual Interagency Science Conference, Research Team Meetings, and other relevant technical workshops.

(b) Promptly quality control their data and make them readily available through the Coordinating Office in accordance with the data collection policy.

(c) Assist the Coordinating Office in the synthesis and interpretation of research results and the development of products of value to restoration and resource.

(d) Work with the Coordinating Office regarding small boat requirements (if any) to schedule access to the dedicated research vessel (description available on the SFERPM website earlier cited). If your project will have small boat needs that you cannot furnish, please provide description and schedule requirements in your proposal.

(e) If your project uses/relies on data/information from research categories in this Announcement, other than the one you are proposing to study, please describe.

Part I: Schedule and Proposal Submission

This document requests full proposals only. The provisions for proposal preparation provided here are mandatory. Proposals received after the published deadline (refer to DATES) or proposals that deviate from the prescribed format will be returned to the sender without further consideration. Information regarding this announcement, additional background information, and required Federal forms are available on the NCCOS/CSCOR/COP home page.

Full Proposals

Applications submitted in response to this announcement require an original proposal and 15 proposal copies at time of submission. This includes color or high-resolution graphics, unusually sized materials, or otherwise unusual materials submitted as part of the proposal. For color graphics, submit either color originals or color copies. The stated requirements for the number of proposal copies provide for a timely review process and is cleared by OMB control number 0648-0384. (See Collection of information requirements.) Facsimile transmissions and electronic mail submission of full proposals will not be accepted.

Required Elements

For clarity in the submission of proposals, the following definitions are provided for recipient use: (1) Funding and/or Budget Period - the period of time when Federal funding is available for obligation by the recipient. The funding period must always be specified in multi-year awards, using fixed year funds. This term may also be used to mean “budget period”. A budget period is typically 12 months. (2) Award and/or Project Period - the period established in the award document during which Federal sponsorship begins and ends. The term “award period” is also referred to as project period in 15 CFR 14.2(cc). Each proposal must also include the following nine elements or it will be returned to sender without further consideration:

(1) Standard Form 424. At time of proposal submission, all applicants anticipating direct funding shall submit the Standard Form, SF-424, “Application for Federal Assistance,” to indicate the total amount of funding proposed for the whole project period. This form is to be the cover page for the original proposal and all requested copies. Multi-institutional proposals must include signed SF-424 forms from all institutions requesting funding.

(2) Signed Summary title page. The title page should be signed by the Principal Investigator (PI). The Summary Title page identifies the project's title starting with the acronym SFP 2004, a short title (less than 50 characters); and the PI's name and affiliation, complete address, phone, FAX and E-mail information. The requested budget for each fiscal year should be included on the Summary Title page. Multi-institution proposals must also identify the lead investigator from each fiscal year for each institution and the requested funding for each fiscal year for each institution on the title page, but no signatures are required on the title page from the additional institutions. Lead investigator and separate budget information is not requested on the title page for institutions that are proposed to receive funds through a subcontractor to the lead institution; however, the COP Summary Proposal Budget Form and accompanying budget justification must be submitted for each contractor. For further details on budget information, please see Section (7) Budget of this Part.

(3) One-page abstract/project summary. The Project Summary (Abstract) Form, which is to be submitted at time of application, shall include an introduction of the problem, rationale, scientific objectives and/or hypotheses to be tested, and a brief summary of work to be completed. The prescribed COP format for the Project Summary Form can be found on the NCCOS/CSCOR/COP Internet site under the COP Grants Information section, Part D.

The summary should appear on a separate page, headed with the proposal title, institution(s), investigator(s), total proposed cost and budget period. It should be written in the third person. The summary is used to help compare proposals quickly and allows the respondents to summarize these key points in their own words.

(4) Project description. The description of the proposed project must be complete and divided into annual increments of work that include: identification of the problem, scientific objectives, proposed methodology, relevance to the SFP 2004 program goal. The project description section (including relevant results from prior support) should not exceed 15 pages. Page limits are inclusive of figures, other visual materials, and letters of endorsement but exclusive of references, milestone chart, and letters regarding cooperation from unfunded collaborators.

This section should clearly identify project management with a description of the functions of each PI within a team. It should provide a full scientific justification for the research rather than simply reiterating justifications presented in this document; and should also include:

(a) The objective for the period of proposed work and its expected significance;

(b) The relation to the present state of knowledge in the field and relation to previous work and work in progress by the proposing principal investigator(s);

(c) A discussion of how the proposed project lends value to the program goal;

(d) Potential coordination with other investigators.

(5) References cited. Reference information is required. Each reference must include the name(s) of all authors in the same sequence in which they appear in the publications, the article title, volume number, page numbers and year of publications. While there is no established page limitation, this section should include bibliographic citations only and should not be used to provide parenthetical information outside the 15-page project description.

(6) Milestone chart. Provide time lines of major tasks covering the 12- to 24-month duration of the proposed project.

(7) Budget. At time of proposal submission, all applicants are required to submit a COP Summary Proposal Budget Form for each fiscal year increment. Multi-institution proposals must include a COP Summary Proposal Budget Form for each institution, and multi-investigator proposals using a lead investigator with contractor's/subgrantee's approach must submit a COP Summary Proposal Budget Form for each contractor/subgrantee.

Each contractor or subgrantee should be listed as a separate item. Describe products/services to be obtained and indicate the applicability or necessity of each to the project. Provide separate budgets for each subgrantee or contractor regardless of the dollar value and indicate the basis for the cost estimates. List all subgrantee or contractor costs under line item number 5—Subcontracts on the COP Summary Proposal Budget Form.

The use of this budget form will provide for a detailed annual budget and for the level of detail required by the NCCOS/CSCOR/COP program staff to evaluate the effort to be invested by investigators and staff on a specific project. The COP budget form is compatible with forms in use by other agencies that participate in joint projects with NCCOS/CSCOR/COP and can be found on the CSCOR/COP home page under Grants Information section, Part D.

All applications must include a budget narrative and a justification to support all proposed budget categories. The SF-424A, Budget Information (Non-Construction) Form, will be requested only from those applicants subsequently recommended for award.

Ship time needs should be clearly identified in the proposed budget. The investigator is responsible for requesting ship time and for meeting all requirements to ensure the availability of requested ship time. Copies of relevant ship time request forms should be included with the proposal.

(8) Biographical sketch. All principal and co-investigators must provide summaries of up to 2 pages that include the following:

(a) A listing of professional and academic essentials and mailing address;

(b) A list of up to five publications most closely related to the proposed project and five other significant publications.

(c) A list of all persons (including their organizational affiliation) in alphabetical order, with whom the investigator has collaborated on a project or publication within the last 48 months, including collaborators on the proposal and persons listed in the publications. If no collaborators exist, this should be so indicated;

(d) A list of persons (including their organizational affiliation) with whom the individual has had an association like thesis advisor or postdoctoral scholar sponsor;

(e) A list of the names and institutions of the individual's own graduate and postgraduate advisors.

The material presented in (c, d, and e) is used to assist in identifying potential conflicts or bias in the selection of reviewers.

(9) Current and pending support. Describe all current and pending federal financial/funding support for all principal and co-investigators, including subsequent funding in the case of continuing grants.

(10) Proposal format and assembly. The original proposal should be clamped in the upper left-hand corner, but left unbound. The 15 additional copies can be stapled in the upper left-hand corner or bound on the left edge. The page margin must be one inch (2.5 cm) margins at the top, bottom, left and right, and the typeface standard 12-points size must be clear and easily legible. Proposals should be single spaced.

Part II: Further Supplementary Information

(1) Funding availability. Funding is contingent upon receipt of fiscal years 2004-2005 Federal appropriations. NOAA is committed to continual improvement of the grants process and accelerating the award of financial assistance to qualified recipients in accordance with the recommendations of the Program Review Team (Information available at www.noaa.gov). In order to fulfill these responsibilities, this solicitation announces that approximately $2.8 million per year is anticipated to be available for FY2004 and FY2005 for SFP projects, in award amounts to be determined by the proposals and available funds.

Applicants are hereby given notice that funds have not yet been appropriated for this SFP program. In no event will NOAA or the Department of Commerce be responsible for proposal preparation costs if this program fails to receive funding or is cancelled because of other agency priorities. For prior fiscal history, for Fiscal years 2002 and 2003, NOAA had approximately $2.8 million available for this program, with approximately $2.1 million of these funds provided by NCCOS/CSCOR/COP and approximately $0.6 million provided by NOAA/NMFS/SEFC.

There is no guarantee that sufficient funds will be available to make awards for all qualified projects. Publication of this notice does not oblige NOAA to award any specific project or to obligate any available funds. If one incurs any costs prior to receiving an award agreement signed by an authorized NOAA official, one would do so solely at one's own risk of these costs not being included under the award.

Publication of this notice does not obligate any agency to any specific award or to obligate any part of the entire amount of funds available. Recipients and subrecipients are subject to all Federal laws and agency policies, regulations and procedures applicable to Federal financial assistance awards.

(2) Project/Award period. Full Proposals can cover a project period from 1 to 2 years, i.e. from date of award up to 24 consecutive months. Multi-year awards may be funded incrementally on an annual basis, but, once awarded, those awards will not compete for funding in subsequent years. Each annual award shall require an Implementation Plan and project description that can be easily divided into annual increments of meaningful work representing solid accomplishments (if prospective funding is not made available, or is discontinued).

The following is a description of Multi-Year Awards for those applicants subsequently recommended for award. This information can also be found on the COP web site under Grants Information. Multi-Year Awards: Multi Year Awards are awards which have an award/project period of more than 12 months of activity. Multi Year Awards are partially funded when the awards are approved, and are subsequently funded in increments. One of the purposes of Multi Year Awards is to reduce the administrative burden on both the applicant and the operating unit. For example, with proper planning, one application can suffice for the entire multi year award period. Funding for each year's activity is contingent upon the availability of funds from Congress, satisfactory performance, and is at the sole discretion of the agency. Multi year funding is appropriate for projects to be funded for 2 to 5 years. Once approved, full applications are not required for the continuations into the out years.

(3) Additional Evaluation Criteria. The Evaluation Criteria set out in section(12)(b) of the November 8, 2002 Federal Register Notice, under Research Performance Competence, is amended to include the following: The capability of the investigator and collaborators to complete the proposed work in light of present commitments to other projects. Therefore, please discuss the percentage of time investigators and collaborators have devoted to other Federal or non-Federal projects, as compared to the time that will be devoted to the project solicited under this notice.

(4) Other requirements. The Department of Commerce Pre-Award Notification Requirements for Grants and Cooperative Agreements contained in the Federal Register October 1, 2001 (66 FR 49917), as amended by the Federal Register notice published on October 30, 2002 (67 FR 66109), are applicable to this solicitation.

(5) Intergovernmental review. Applications under this program are not subject to Executive Order 12372, “Intergovernmental Review of Federal Programs.” It has been determined that this notice is not significant for purposes of Executive Order 12866. Pursuant to 5 U.S.C. 553(a) (2), an opportunity for public notice and comment is not required for this notice relating to grants, benefits and contracts. Because this notice is exempt from the notice and comment provisions of the Administrative Procedure Act, a Regulatory Flexibility Analysis is not required, and none has been prepared. It has been determined that this notice does not contain policies with Federalism implications as that term is defined in Executive Order 13132.

(6) Collection of information requirements. This notification involves collection-of-information requirements subject to the Paperwork Reduction Act. The use of Standard Forms 424, 424A, has been approved by the Office of Management and Budget (OMB) under control numbers 0348-0043 and 0348-0044.

The following requirements have been approved by OMB under control number 0648-0384; a Summary Proposal Budget Form (30 minutes per response), a Project Summary Form (30 minutes per response), a standardized format for the annual Performance Report (5 hours per response), a standardized format for the Final Report (10 hours per response), and the submission of up to 20 copies of proposals (10 minutes per response). The response estimates include the time for reviewing instructions, searching existing data sources, gathering and maintaining the data needed, and completing and reviewing the collection of information. Send comments regarding these requirements and the burden estimate, or any other aspect of this collection of information, including suggestions for reducing this burden, to leslie.mcdonald@noaa.gov. Copies of these forms and formats can be found on the CSCOR/COP home page under Grant Information sections, Parts D and F.

Notwithstanding any other provision of law, no person is required to respond to, nor shall any person be subject to a penalty for failure to comply with a collection of information subject to the requirements of the Paperwork Reduction Act, unless that collection displays a currently valid OMB control number.

Dated: May 7, 2003.
Ted. I. Lillestolen,
Captain, (NOAA) Associate Deputy Assistant Administrator, National Ocean and Atmospheric Administration, National Ocean Service.

[FR Doc. 03-11741 Filed 5-9-03; 8:45 am]

BILLING CODE 3510-JS-S